DEPARTMENT OF JUSTICE

[OMB Number 1121-0243]

Agency Information Collection Activities; Proposed eCollection; eComments Requested; Revision of a Currently Approved Collection: Office of Justice Programs' Justice Grants System/JustGrants (formerly Community Partnership Grants Management System)

AGENCY: Office of Audit, Assessment, and Management, Office of Justice Programs.

ACTION: 60-day notice.

SUMMARY: The Department of Justice (DOJ), Office of Justice Programs (OJP), will be submitting the following information collection request to the Office of Management and Budget (OMB) for review and approval in accordance with the Paperwork Reduction Act of 1995. The proposed information collection is published to obtain comments from the public and affected agencies.

DATES: The purpose of this notice is to allow for an additional 60 days for public comment until July 13, 2020.

FOR FURTHER INFORMATION CONTACT: If you have additional comments especially on the estimated public burden or associated response time, suggestions, or need a copy of the proposed information collection instrument with instructions for information, please contact please contact: Maria Swineford, (202) 616-0109, Office of Audit, Assessment, and Management, Office of Justice Programs, U.S. Department of Justice, 810 Seventh Street NW, Washington, DC 20531 or maria.swineford@usdoj.gov.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information:

(1) Type of Information Collection: Renewal of a currently approved collection (1121-0243).

(2) The Title of the Form/Collection: Justice Grants System (JustGrants).

(3) The Agency Form Number, if any, and the Applicable Component of the Department Sponsoring the Collection:

Form Number: None.

Component: Office of Justice Programs, Department of Justice.

(4) Affected Public Who Will be Asked or Required to Respond, as well as a Brief Abstract:

Primary: State, Local or Tribal Governments, Organizations, and Institutes of Higher Education, and other applicants, applying for grants.

Other: None.

Abstract: JustGrants is a replacement for a collection of legacy systems currently used by the COPS Office, OJP, and OVW. Functionality of JustGrants includes online application submission; peer review; and grant award and award management which includes: award notification and acceptance, grant adjustment modification (GAM); draw down of funds (via the Department of Treasury-managed Automated Standard Application for Payments (ASAP) system system); post-award programmatic progress reports, special reports financial reports, monitoring and audit, performance measures, and subaward reports; closeouts and compliance. JustGrants facilitates reporting to Congress and other interested agencies. The system provides essential information required to comply with the Federal Funding Accountability and Transparency Act of 2006 (FFATA). JustGrants has also been designated the OJP official system of record for grants activities by the National Archives and Records Administration (NARA).

(5) An Estimate of the Total Number of Respondents and the Amount of Time Estimated for an Average Respondent to Respond: An estimated 6,402 organizations will respond to JustGrants and on average it will take each of them up to 10 hours to complete various award lifecycle processes within the system varying from application submission, award management and reporting, and award closeout.

(6) An Estimate of the Total Public Burden (in hours) Associated with the collection: The estimated public burden associated with this application is 64,118 hours.

If additional information is required contact: Melody Braswell, Department Clearance Officer, United States Department of Justice, Justice Management Division, Policy and Planning Staff, Two Constitution Square, 145 N Street NE, 3E.405A, Washington, DC 20530.

Dated: May 11, 2020.
Melody Braswell,
Department Clearance Officer for PRA, U.S. Department of Justice.

[FR Doc. 2020-10365 Filed 5-13-20; 8:45 am]

BILLING CODE 4410-02-P